DEPARTMENT OF TRANSPORTATION

Surface Transportation Board

[Docket No. EP 670 (Sub-No. 1)]

Notice of Rail Energy Transportation Advisory Committee Meeting

AGENCY: Surface Transportation Board.

ACTION: Notice of Rail Energy Transportation Advisory Committee meeting.

SUMMARY: Notice is hereby given of a meeting of the Rail Energy Transportation Advisory Committee (RETAC), pursuant to section 10(a)(2) of the Federal Advisory Committee Act, Public Law 92-463, as amended (5 U.S.C., App. 2).

DATES: The meeting will be held on Wednesday, September 15, 2010 at 1:30 p.m. M.D.T.

ADDRESSES: The meeting will be held at the offices of Xcel Energy, 1800 Larimer Street, 2nd Floor, Conference Center, Denver, Colorado 80202.

FOR FURTHER INFORMATION CONTACT: Scott M. Zimmerman (202) 245-0202. Assistance for the hearing impaired is available through the Federal Information Relay Service (FIRS) at: (800) 877-8339.

SUPPLEMENTARY INFORMATION: RETAC arose from a proceeding instituted by the Board, in Establishment of a Rail Energy Transportation Advisory Committee, EP 670. RETAC was formed to provide advice and guidance to the Board, and to serve as a forum for discussion of emerging issues regarding the transportation by rail of energy resources, particularly, but not necessarily limited to, coal, ethanol, and other biofuels. The purpose of this meeting is to continue discussions regarding issues such as rail performance, capacity constraints, infrastructure planning and development, and effective coordination among suppliers, carriers, and users of energy resources. Potential agenda items include further consideration of a white paper on industry Best Practices; a Performance Measures subcommittee update on the trends shown in the most recent industry data; discussion of how potential regulation of coal plant emissions may impact coal/rail demand in the future; discussion of railroads' preparations for the fall and winter seasons; and roundtable discussions on shipment ratability, utility inventory levels, current rail operations, and rail service metrics.

The meeting, which is open to the public, will be conducted pursuant to RETAC's charter and Board procedures. All guests will need to check in at the front desk, show a picture I.D., receive a visitor's badge, and will be escorted to the 2nd floor.

Further communications about this meeting may be announced through the Board's Web site at www.stb.dot.gov.

This action will not significantly affect either the quality of the human environment or the conservation of energy resources.

Authority: 49 U.S.C. 721, 49 U.S.C. 11101; 49 U.S.C. 11121.

Decided: August 26, 2010.
Jeffrey Herzig,
Clearance Clerk.

[FR Doc. 2010-21796 Filed 8-30-10; 8:45 am]

BILLING CODE 4915-01-P